DEPARTMENT OF COMMERCE

International Trade Administration

[A-570-909]

Certain Steel Nails From the People's Republic of China: Notice of Correction of the Amended Final Results of Antidumping Duty Administrative Review; 2016-2017

AGENCY: Enforcement and Compliance, International Trade Administration, Department of Commerce.

SUMMARY: The Department of Commerce (Commerce) is correcting the amended final results of the administrative review of the antidumping duty order on certain steel nails from the People's Republic of China (China).

DATES: Applicable June 12, 2019.

FOR FURTHER INFORMATION CONTACT: Susan Pulongbarit or Benito Ballesteros, AD/CVD Operations, Office V, Enforcement and Compliance, International Trade Administration, U.S. Department of Commerce, 1401 Constitution Avenue NW, Washington, DC 20230; telephone 202-482-4031 or 202-482-7425, respectively.

SUPPLEMENTARY INFORMATION:

On May 29, 2019, Commerce published in the Federal Register the Amended Final Results of the 2016-2017 administrative review on the antidumping duty order on certain steel nails from China.¹ Commerce is correcting the Amended Final Results to address the misspelling of one non-selected respondent company name. Specifically, the company, Hebei Cangzhou New Century Foreign Trade Co., Ltd., was misspelled in the Amended Final Results. The correct spelling of the company's name is listed in this notice. As a result, the Amended Final Results are being corrected.

¹ See Certain Steel Nails from the People's Republic of China: Amended Final Results of Antidumping Duty Administrative Review; 2016-2017, 84 FR 24751 (May 29, 2019) (Amended Final Result).

This correction to the Federal Register notice is issued and published in accordance with section 777(i)(1) of the Tariff Act of 1930, as amended.

Dated: June 6, 2019.
Christian Marsh,
Deputy Assistant Secretary for Enforcement and Compliance.

[FR Doc. 2019-12391 Filed 6-11-19; 8:45 am]

BILLING CODE 3510-DS-P